DEPARTMENT OF COMMERCE

Bureau of Industry and Security

15 CFR Parts 730, 732, 734, 736, 740, and 744

[Docket: 240923-0249]

RIN 0694-AJ43

Proposed Amendments to End-Use and End-User Based Export Controls, Including U.S. Persons Activities Controls: Military and Intelligence End Uses and End Users; Extension of Comment Period

AGENCY: Bureau of Industry and Security, Department of Commerce.

ACTION: Proposed rule; extension of comment period.

SUMMARY: On July 29, 2024, the Bureau of Industry and Security (BIS) published in the Federal Register the proposed rule, “Proposed Amendments to End-Use and End-User Based Export Controls, Including U.S. Persons Activities Controls: Military and Intelligence End Uses and End Users” with comments originally due September 27, 2024. This notification extends the deadline for written comments to October 15, 2024. This extension is being made to allow for commenters to have additional time to review the proposed rule and to be informed by the public outreach that BIS is conducting on the rule in preparing their comments. Extending the public comment period will not in any way undermine the rule or national security of the United States.

DATES: The comments period for the proposed rule published July 29, 2024, at 89 FR 60985 is extended. Comments must be received by BIS no later than October 15, 2024.

ADDRESSES: Comments on this rule may be submitted to the Federal rulemaking portal (www.regulations.gov). The regulations.gov ID for this rule is: BIS-2024-0029. Please refer to RIN 0694-AJ43 in all comments.

All filers using the portal should use the name of the person or entity submitting the comments as the name of their files, in accordance with the instructions below. Anyone submitting business confidential information should clearly identify the business confidential portion at the time of submission, file a statement justifying nondisclosure and referring to the specific legal authority claimed, and provide a non-confidential version of the submission. For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available through https://www.regulations.gov. Commenters submitting business confidential information are encouraged to scan a hard copy of the non-confidential version to create an image of the file, rather than submitting a digital copy with redactions applied, to avoid inadvertent redaction errors which could enable the public to read business confidential information.

FOR FURTHER INFORMATION CONTACT: For questions contact Sharron Cook, Senior Export Policy Analyst in the Regulatory Policy Division of the Bureau of Industry and Security at Sharron.cook@bis.doc.gov or Phone: (202) 482-4890. Please refer to RIN 0694-AJ43 in the subject line of emails.

SUPPLEMENTARY INFORMATION:

Background

On July 29, 2024, the Bureau of Industry and Security (BIS) published in the Federal Register the proposed rule, “Proposed Amendments to End-Use and End-User Based Export Controls, Including U.S. Persons Activities Controls: Military and Intelligence End Uses and End Users” (RIN 0694-AJ43) (89 FR 60985), which proposed changes to existing restrictions under the Export Administration Regulations (15 CFR parts 730 through 744) on military and intelligence end uses and end users and related U.S. persons activities controls, as well as the proposed addition of a military-support end-user control. On that same day, the Department of State published a complementary proposed rule entitled “International Traffic in Arms Regulations: Revisions to Definition and Controls Related to Defense Services” (89 FR 60980) proposing a revision to the definition of defense service at 22 CFR 120.32 of the International Traffic in Arms Regulations (22 CFR parts 120 through 130) and additions to the United States Munitions List at 22 CFR 121.1. In response to requests from the regulated community, the Department of Commerce is extending the comment period for this rule (RIN 0694-AJ43) by 15 days.

* * * * *

Thea D. Rozman Kendler,
Assistant Secretary for Export Administration.

[FR Doc. 2024-22146 Filed 9-24-24; 4:15 pm]

BILLING CODE 3510-33-P